INTERNATIONAL TRADE COMMISSION

[Investigation No. 701-TA-486 and 731-TA-1195-1196 (Review)]

Utility Scale Wind Towers From China and Vietnam; Determinations

On the basis of the record ¹ developed in the subject five-year reviews, the United States International Trade Commission (“Commission”) determines, pursuant to the Tariff Act of 1930 (“the Act”), that revocation of the countervailing duty order on utility scale wind towers from China and the antidumping duty orders on utility scale wind towers from China and Vietnam would be likely to lead to continuation or recurrence of material injury to an industry in the United States within a reasonably foreseeable time.²

¹ The record is defined in sec. 207.2(f) of the Commission's Rules of Practice and Procedure (19 CFR 207.2(f)).

² Chairman David S. Johanson dissenting with respect to the antidumping duty order on utility scale wind towers from Vietnam. Commissioner Meredith M. Broadbent not participating.

Background

The Commission, pursuant to section 751(c) of the Act (19 U.S.C. 1675(c)), instituted these reviews on January 2, 2018 (83 FR 142) and determined on April 9, 2018 that it would conduct full reviews (83 FR 17446, April 19, 2018). Notice of the scheduling of the Commission's reviews and of a public hearing to be held in connection therewith was given by posting copies of the notice in the Office of the Secretary, U.S. International Trade Commission, Washington, DC, and by publishing the notice in the Federal Register on September 13, 2018 (83 FR 46516). Effective February 4, 2019, the Commission revised its schedule due to the lapse in appropriations and ensuing cessation of Commission operations (84 FR 2926, February 8, 2019). The Commission cancelled the hearing scheduled on February 28, 2019 following a request by the sole party to the proceeding (84 FR 7934, March 5, 2019). In lieu of a hearing, the domestic producers responded to written questions submitted by the Commission as part of their posthearing brief.

The Commission made these determinations pursuant to section 751(c) of the Act (19 U.S.C. 1675(c)). It completed and filed its determinations in these reviews on May 2, 2019. The views of the Commission are contained in USITC Publication 4888 (April 2019), entitled Utility Scale Wind Towers from China and Vietnam: Investigation Nos. 701-TA-486 and 731-TA-1195-1196 (Review).

By order of the Commission.
Issued: May 2, 2019.
Lisa Barton,
Secretary to the Commission.

[FR Doc. 2019-09395 Filed 5-7-19; 8:45 am]

BILLING CODE 7020-02-P